ADVISORY COUNCIL ON HISTORIC PRESERVATION

Exemption From Historic Preservation Review for General Services Administration Routine Operations and Maintenance

AGENCY: Advisory Council on Historic Preservation.

ACTION: Approval of exemption.

SUMMARY: The Advisory Council on Historic Preservation has approved an exemption that relieves the General Services Administration from historic preservation review requirements under the National Historic Preservation Act for specified routine operations and maintenance activities.

DATES: The exemption went into effect on January 13, 2023.

FOR FURTHER INFORMATION CONTACT: Laura Lavernia, (202) 517-0225, llavernia@achp.gov.

SUPPLEMENTARY INFORMATION: Section 106 of the National Historic Preservation Act (section 106) requires federal agencies to take into account the effects of projects, activities, or programs they carry out, license, or assist on historic properties (undertakings) and afford the Advisory Council on Historic Preservation (ACHP) a reasonable opportunity to comment with regard to such undertakings. Historic properties are those that are listed or have been determined eligible for listing in the National Register of Historic Places (NRHP).

The National Historic Preservation Act (NHPA) authorizes the ACHP to promulgate regulations for exempting undertakings “from any or all the requirements of” the NHPA. The section 106 implementing regulations, 36 CFR 800, detail the process for the approval of such exemptions.

In accordance with 36 CFR 800.14(c)(1), the ACHP may approve an exemption for an undertaking if it finds that: (i) the actions within the program or category would otherwise qualify as “undertakings” as defined in 36 CFR 800.16; (ii) the potential for effects of the undertakings within the program or category upon historic properties are foreseeable and likely to be minimal or not adverse; and (iii) exemption of the program or category is consistent with the purposes of the NHPA.

I. Background

General Services Administration (GSA) Use of 36 CFR 800.14 for Regional Routine Operations and Maintenance

In accordance with the regulations and processes outlined in 36 CFR 800.14, GSA has, since 1994, exercised the option under this provision to streamline section 106 compliance by exempting specified routine operations and maintenance activities from section 106 review through the development of regional programmatic agreements (Regional PAs) in accordance with 36 CFR 800.14(b). GSA's Regional PAs have been developed and negotiated in consultation with State Historic Preservation Offices (SHPO), Tribal Historic Preservation Officers (THPO), the ACHP, and others to improve the efficiency of consultation for undertakings that pose minimal or no adverse effect to historic properties.

GSA Regional Programmatic Agreements

GSA currently has four (4) executed Regional PAs in place among its eleven (11) regions: Southeast Sunbelt (Region 4), Rocky Mountain (Region 8), Pacific Rim (Region 9), and the National Capital (Region 11). GSA Regional Historic Preservation Officers (RHPOs) within these four regions have identified and defined, in consultation with SHPOs, THPOs, and the ACHP, routine operations and maintenance undertakings for exemption from section 106 review. Collectively, these agreements include twenty-two (22) states and apply to approximately half of GSA's historic property inventory.

GSA Proposed Use of 36 CFR 800.14 for National Routine Operations and Maintenance

Given GSA's comprehensive preservation policies, preservation personnel qualifications, widely recognized program, and decades-long track record of compliance, the ACHP recommended GSA pursue an exemption in accordance with 36 CFR 800.14(c) to further streamline and strengthen the agency's nationwide approach to the ongoing management of these activities. The exemption will supplement the extant Regional PAs and inform future agreements proposed as part of the agency's continued compliance excellence efforts. GSA worked closely with ACHP staff to outline and develop the exemption, establish parameters, and define routine operations and maintenance activities (see Appendix A of the text of the exemption below).

II. Exemption Structure and Implementation

The program alternative exempts GSA from the requirement of the section 106 review process for routine operations and maintenance activities (subpart B of the implementing regulations, as codified in 36 CFR 800). Pursuant to 36 CFR 800.14(c)(1), section 106 exemptions must meet certain criteria: (i) The actions within the program or category would otherwise qualify as “undertakings,” as defined in 800.16; (ii) The potential effects of the undertakings within the program or category upon historic properties are foreseeable and likely to be minimal or not adverse; and (iii) exemption of the program or category is consistent with the purposes of the NHPA.

Actions Within Exemption as Undertakings

The exemption applies to routine operations and maintenance activities implemented in accordance with the Secretary of the Interior's Standards for the Treatment of Historic Properties (Secretary's Standards) and conducted on historic property under the custody and control of GSA. The ACHP has determined that such operations and maintenance activities meet the definition of undertakings since they are carried out by a federal agency, GSA. This definition is tied to federal involvement in an activity or project, by either permitting, funding, or licensing. Additionally, routine operations and maintenance activities have the potential to impact the physical environment and therefore have the potential to cause effects.

Potential Effects Foreseeable and Likely To Be Minimal or Not Adverse

The effect of activities within the scope of the exemption are foreseeable and minimal or not adverse. The exemption defines routine operations and maintenance for GSA properties and, specifically for the purpose of section 106 compliance, to historic properties listed or determined eligible for listing in the NRHP. The ongoing routine operations and maintenance of historic properties contributes to their preservation.

The exemption abides by the definition of “Preservation” as a specific treatment—one of four approaches for historic properties—established by the Secretary's Standards. As indicated in 36 CFR 800.5, preservation treatments in accordance with the Secretary's Standards will not lead to adverse effects. Routine operations and maintenance activities exempted from section 106 review are specified in Appendix A of the exemption. These activities were compiled from the lists of activities excluded from section 106 review in GSA Regional PAs, and from the Secretary of the Interior's Standards for Preservation & Guidelines for Preserving Historic Buildings. The inherent nature of these activities, combined with the professional qualifications of those performing and providing oversight for the conduct of such activities, is critical to ensuring that they are carried out in accordance with the Standards and Guidelines.

The NHPA, and section 106 regulations 36 CFR 800.2(a)(1), acknowledge that the care and custody of historic properties require specialized knowledge, training, and experience to adequately perform work that meets the Secretary's Standards. The Secretary of the Interior's Professional Qualification Standards (Qualification Standards) codify the minimum requirements that must be met for professional work concerning historic properties, and their application by qualified and highly experienced professionals will ensure the credibility of historic preservation within the larger public arena at the federal, state, and local levels, as well as in the private sector.

When an agency establishes and maintains a comprehensive nationwide stewardship program for the preservation of its historic properties and provides guidance to and oversight of those who manage work in them, routine operations and maintenance activities are carried out in a manner that eliminates or minimizes the potential for adverse effects, thereby meeting the “minimal or not adverse” effect standard for exemptions. To avoid adverse effects as defined in the section 106 regulations (36 CFR 800.5), the exemption ensures that the historic preservation staffing infrastructure at GSA, as set forth as policy in the GSA Order Procedures for Historic Properties (currently ADM 1020.3) and subsequent revisions (ADM) provides oversight by personnel exceeding the Qualification Standards. GSA's staffing infrastructure provides continual monitoring and management of historic properties and a system of checks and balances for routine operations and maintenance ensuring that work complies with the Secretary's Standards.

GSA's Federal Preservation Officer (FPO) leads GSA's agency-wide stewardship program, guides regional offices and the national headquarters, and acts as the Agency Official for purposes of section 106 compliance, among other duties. Along with the FPO, compliance and oversight of historic properties is managed by GSA Center for Historic Buildings staff and RHPOs in each of GSA's regions nationwide. The RHPO directs GSA's historic preservation program at the regional level and is responsible for coordinating day-to-day compliance with preservation laws, regulations, orders, and directives. The RHPO is senior staff who acts as a liaison between the Regional Commissioner, the FPO, and state, local, and Tribal representatives. Per the standard position description, the RHPO must possess specialized knowledge of laws, regulations, and mastery of the field of historic preservation, including expert technical knowledge of architectural conservation and rehabilitation principles and practices. The ADM, states that “the RHPO must be organizationally positioned and given authority to lead and manage actively the regional historic preservation program and implement national preservation policies and initiatives.” section 106 compliance is only one of the roles of the RHPO, whose responsibility is comprehensive stewardship of the historic properties in their region. Working in concert with regional offices and the FPO, RHPOs provide technical assistance, along with program and policy guidance, to regional facility management staff, project managers, portfolio and leasing specialists, and administrators.

Consistency With the Purposes of the NHPA

The exemption is consistent with the intent of the NHPA. With respect to federal property, the NHPA fosters a spirit of stewardship for federal agency historic preservation programs administered by professionals who meet established Qualification Standards. The ACHP has determined the exemption will serve to reinforce the critical role of GSA's preservation staff expertise and may encourage other federal agencies to increase their staffing, professional qualifications, and internal preservation policies.

III. Public Participation

In accordance with 36 CFR 800.14(c)(2), public participation regarding exemptions must be arranged on a level commensurate with the subject and scope of the exemption. Plans for public participation (consultation) for a proposed exemption are arranged by the proponent of the exemption. The ACHP introduced the exemption to its Federal Agency Programs Committee on June 28, 2022, and GSA briefed the ACHP at its Business Meeting on June 29, 2022. In accordance with 36 CFR 800.14(c)(3), GSA held two consultation meetings with SHPOs and other key stakeholders on July 28, 2022, and August 2, 2022. On August 9, 2022, GSA hosted a Tribal Listening Session with Tribal representatives, THPOs, and section 106 Coordinators. In total, 36 SHPOs, 32 THPOs, 3 Tribal representatives, the National Trust for Historic Preservation (NTHP) and the National Conference of State Historic Preservation Officers (NCSHPO) participated in consultation.

On October 14, 2022, GSA submitted the final proposed exemption to the ACHP. Per the regulations, ACHP must approve or reject the proposed exemption within thirty (30) days of receipt, provided the ACHP does not request additional information from the proponent. GSA's proposal transmittal letter extended the regulatory timeframe to ninety (90) days, allowing for the ACHP to conduct Tribal Consultation.

Per 36 CFR 800.14(c), the ACHP drafted a Tribal Consultation Plan for the exemption and, with GSA, conducted a Tribal consultation meeting with Indian Tribes and Tribal and Native Hawaiian Organization (NHO) leaders that included thirty-six (36) participants, on November 7, 2022. On November 17, 2022, the ACHP published information regarding the exemption for public comment on its website. ACHP emailed notes from the Tribal consultation meeting along with a summary document of how consulting party comments were considered to Tribal and NHO leaders and representatives December 22, 2022.

The ACHP membership voted to approve the final exemption on January 13, 2023.

IV. Response to Public Comment

In response to its consultation on the proposed exemption, GSA received 215 separate comments from 16 SHPOs, the NTHP and NCSHPO, and 3 from THPOs, Indian Tribes and Tribal and NHO representatives during early coordination. The exemption received widespread support from consulting parties and respondents contributed much in terms of suggesting refinements and in seeking clarification on details and aspects of the exemption, as well as the list of routine operations and maintenance activities defined in Appendix A. GSA considered all comments and revised the exemption accordingly. The final exemption and its Appendix A reflect a meaningful and productive consultation process, and a comprehensive exemption improved by the significant contributions of consulting parties. Summaries of responses to common and key comments are provided below.

Unanticipated Discoveries

An “Unanticipated Discoveries” clause has been added to the exemption text (Stipulation III). This clause addresses ground disturbing activities: archaeological concerns, human remains, and sacred objects; and previously unidentified historic properties and character-defining features discovered during the implementation of an exempted activity. Stipulation III sets forth a procedure for GSA to initiate consultation with the appropriate parties, as necessary.

Application of Exempted Activities on Tribal Lands

GSA clarified in Stipulation II “Excluded from Exemption” that the exemption proposed by GSA does not apply to property on Tribal lands and does not involve any property under the custody and control of GSA identified as having religious or cultural significance to an Indian Tribe or NHO.

Application of the Standards for Preservation

Several questions were posed regarding GSA's associating routine operations and maintenance activities at historic properties to the Secretary of the Interior's Standards for Preservation (Preservation Standards). The Preservation Standards define “preservation” as “the act or process to sustain the integrity, form, and materials of a historic property. Work generally focuses on the ongoing maintenance and repair of historic materials and features rather than extensive replacement and new construction.” Maintenance, by this definition, is preservation. Preservation as a treatment focuses on the ongoing maintenance of a historic property and its distinctive features allowing for limited, in-kind replacement of original fabric and character-defining features and limited, sensitive upgrading of mechanical, electrical, and plumbing systems and other code-required work to make properties functional. Protection, maintenance, and repair are emphasized while replacement is minimized. GSA consulted with ACHP staff on the use of the Preservation Standards and the ACHP agreed these standards meet the criteria for establishing an exempted category per 36 CFR 800.14(c)(1).

Reference to Guides, Briefs, Bulletins and Standards

Comments related to activities outlined in Appendix A of the exemption suggested GSA specifically cite the relevant National Park Service Preservation Brief (NPS Brief) or qualify that the exempted activity will adhere to the Preservation Standards. The following comprehensive statement is provided in the introduction to Appendix A: “Routine operations and maintenance activities in historic properties under the custody and control of GSA shall follow the Preservation Standards and be informed by National Park Service Technical Preservation Briefs (NPS Briefs) and supplemented by GSA's repository of technical documents including specifications and treatment guidelines developed by GSA materials conservation experts in accordance with these standards. At any time, should a scope of work deviate from the Preservation Standards, the RHPO will initiate the section 106 review process.” Given that all activities overseen by GSA's RHPOs will be carried forth in compliance with the Preservation Standards, additional individual references would be redundant.

Mothballing as Preservation

Several comments expressed concern regarding the inclusion of mothballing as an exempted activity; specifically, regarding the potential for a property to remain indefinitely mothballed as a result of exempting this activity. GSA will adhere to the intent, protocols and recommendations specified in NPS Brief 31, “Mothballing Historic Buildings,” which are temporary measures meant to be applied for a period up to ten (10) years. Mothballing is considered a preservation activity as it protects a structure until a use can be identified. Preservation as a treatment includes preliminary measures to protect and stabilize the property. More specifically, mothballing is described in Standard 1 of the Preservation Standards as “Where a treatment and use have not been identified, a property will be protected and, if necessary, stabilized until additional work may be undertaken.” If mothballing of a specific property is anticipated to extend beyond a period of ten (10) years, standard section 106 review will be initiated by the GSA RHPO.

Reporting Requirement

Several consulting parties requested consideration of an annual reporting requirement. The ACHP staff confirmed that reporting is inconsistent with the intent of an exemption as a program alternative, which exempts activities that have minimal or no effects to historic properties. GSA will report to the ACHP on the exemption's use, application, and impact on streamlining the effectiveness and efficiency of section 106 compliance in accordance with Executive Order 13287 and its section 3 triennial Federal Property Stewardship Report requirement.

GSA Section 110 Stewardship

Several SHPOs inquired as to how GSA determines which properties are eligible and whether or not the activity to be performed would affect the character-defining features or spaces that contribute to the significance of the property. GSA has an effective and nationally recognized identification, evaluation, and documentation program. GSA section 110 stewardship policy practice is to begin assessing properties 40 years post construction to ensure all considerations have been given and determined in advance of the property reaching 50 years of age. GSA's determinations of eligibility (DOEs) are reviewed by and concurred upon by SHPOs. GSA's RHPOs, all exceeding the Qualification Standards, possess the knowledge, skill, and expertise necessary to responsibly and accurately determine whether or not an activity will affect character-defining features and if section 106 review must be initiated. GSA internal planning documents are prepared in accordance with NHPA section 110 and, as confirmed by the ACHP staff, do not require concurrence. GSA has further addressed this comment by clarifying in Stipulation II “Excluded from Exemption” that the exemption would not impact or alter GSA established section 110 responsibilities or practice.

Applicability of Exemption to Fine Arts Program

Clarification was requested as to the applicability of the exemption and specific maintenance activities to murals and other fine arts features integral to many GSA historic properties. GSA clarified in section II “Excluded from Exemption” that maintenance, preservation, and conservation of fine arts works at historic properties are governed by the Policies & Procedures of GSA's Fine Arts Program (https://www.gsa.gov/fine-arts) and are not covered by the exemption.

Applicability of Exemption to National Historic Landmarks (NHLs)

The applicability of the exemption to NHLs was questioned by several consulting parties. GSA recognizes the special importance of NHLs and exercises particular care in the operations and maintenance of these highly significant properties. GSA also recognizes that the Secretary's Standards do not differentiate between preservation of NHLs and preservation of other historic properties. The exemption will apply to all GSA properties determined eligible for or listed in the NRHP, regardless of their level of significance. In the event that an activity proposed exceeds the definition or scope set forth in the exemption, the RHPO will initiate section 106 consultation and, as is standard practice for GSA, invite the NPS to participate as a consulting party.

Definitions and Clarification of Terms

Based on comments requesting clarification of terms, the exemption “Definitions” section has been modified to reference definitions in 36 CFR 800, and amended to add definitions for additional, specific terms, as requested.

V. Text of the Exemption

The full text of the exemption is reproduced below:

U.S. General Services Administration Section 106 Exemption for Routine Operations and Maintenance

I. Exemption From Section 106 Review Requirements

Except as noted in section II, and so long as GSA maintains its national preservation program and personnel infrastructure, as specified in GSA policy Procedures for Historic Properties, ADM 1020.3 (or subsequent revisions) (ADM), GSA is exempt from the section 106 review process, as outlined in 36 CFR 800 Subpart B, for routine operations and maintenance activities, as defined in Appendix A, in historic properties under the jurisdiction, custody, and control of GSA, unless GSA determines that, per 36 CFR 800.14(c)(6), there are circumstances under which an exempted activity should be reviewed under section 106.

II. Excluded From Exemption

The following items do not constitute exempted categories and are excluded from the exemption:

(a) The exemption does not affect GSA's section 110 responsibilities, as set forth in the NHPA. GSA will maintain its existing identification, evaluation, and documentation efforts in accordance with the ADM.

(b) The exemption does not apply to activities performed according to the Secretary of the Interior's Standards for Restoration, Rehabilitation, or Reconstruction of Historic Properties. Exempted activities are not to include substantial or extensive replacements of character-defining features and are not intended for the exemption of reconstruction or restoration of missing character-defining features. If the continued use of a property requires extensive replacement, alterations, additions or any demolition, the required treatments are not routine operations and maintenance activities covered under this exemption. The exemption does not apply to changes in use for a property, as adaptive use is considered under Rehabilitation.

(c) Exempted activities must avoid extant, documented archaeological resources. Archaeological sites must be preserved and maintained in place. If avoidance is not feasible or possible, the RHPO will initiate section 106 Review under Subpart B of 36 CFR 800.

(d) Maintenance, preservation, and conservation of fine arts works at historic properties are governed by GSA's Policies & Procedures of the Fine Arts Program and are not covered by this exemption.

(e) This exemption does not apply on Tribal lands and does not involve any property under the custody and control of GSA identified as having religious and/or cultural significance to an Indian Tribe or NHO.

(f) As per 36 CFR 800.14(c)(6), if an RHPO determines that there are special circumstances which warrant section 106 review for an activity otherwise exempted, the RHPO will initiate section 106 Review under Subpart B of 36 CFR 800.

III. Unanticipated Discoveries

Ground Disturbing Activities

Ground disturbing activities may have the potential to affect historic properties through unanticipated discoveries. Where previously undetected historic or cultural resources are discovered during implementation of exempted activities, GSA will proceed with one of the following:

a. If a GSA Regional PA is in place to govern the unanticipated discovery, GSA shall follow the procedures outlined therein.

b. For GSA regions without a Regional PA, if an unanticipated discovery is made during the implementation of an exempted activity, at any stage, work will stop immediately. The RHPO shall be notified within twenty-four (24) hours and the RHPO shall inform the corresponding SHPO/THPO, any Indian Tribe or NHO that may attach religious and/or cultural significance to the property, and the ACHP of the discovery within forty-eight (48) hours. Unanticipated discoveries will be handled as outlined in 36 CFR 800.13(b).

Treatment of Human Remains and Sacred Objects

If human remains, funerary objects, sacred objects, or objects of cultural patrimony are discovered at any time during the implementation of any exempted activity, work shall stop immediately within thirty (30) meters of the location of the discovery, and any human remains encountered during the undertaking will be given sensitive and respectful treatment. GSA shall implement one of the above provisions set forth for unanticipated discoveries. Human remains will be provided with security until they are removed. The remains will be carefully covered and secured to protect them from any degradation, inappropriate observation, or inappropriate photography. GSA shall follow the applicable provisions of the Native American Graves Protection and Repatriation Act (NAGPRA, 25 U.S.C. 3001).

If a property discovered has not been previously included in or determined eligible for the NHRP and/or provisions for its treatment are not contained in an approved archaeological treatment plan, GSA may assume that the property is eligible for inclusion in the NRHP for purposes of this exemption.

IV. Amendments

The terms of the exemption may be amended by the ACHP membership in a manner consistent with 36 CFR 800.14(c)(1). The ACHP shall first consult with GSA and other parties, as appropriate. The ACHP will publish notice in the Federal Register to that effect within thirty (30) days after its decision to amend the exemption and will notify consulting parties of any amendments ACHP will post the final, adopted version of the exemption on its website.

V. Termination

The ACHP may terminate the exemption at any time in accordance with 36 CFR 800.14(c)(7).

VI. Definitions

The exemption adopts definitions in 36 CFR 800.16. In addition, the following additional definitions shall apply to this exemption:

(a) “Character-defining features” means the visual and physical aspects that comprise the appearance and individually and collectively contribute to the significance of the historic property.

(b) “In-kind” means the repair or replacement of a character-defining feature or item with one that meets its design specifications in the same way, producing the same appearance. Repair or replacement with the same material or new material that matches the historic material in type, design, dimension, texture, detailing, and appearance.

(c) “Maintenance” means the “activities directed toward keeping fixed assets in an acceptable condition. Activities include preventative maintenance; replacement of parts, systems, or components; and other activities needed to preserve or maintain the asset. Maintenance and repairs, as distinguished from capital improvements, exclude activities directed towards expanding the capacity of an asset or otherwise upgrading it.” (Federal Management Regulation, Title 41 Public Contracts and Property Management, Part 102-74, entitled “Facility Management.”)

(d) “Preservation” means the act or process of applying measures necessary to sustain the existing form, integrity, and materials of an historic property. Work, including preliminary measures to protect and stabilize the property, generally focuses upon the ongoing maintenance and repair of historic materials and features rather than extensive replacement and new construction. New exterior additions are not within the scope of this treatment; however, the limited and sensitive upgrading of mechanical, electrical, and plumbing systems and other code-required work to make properties functional is appropriate within a preservation project. Preservation is a distinct treatment for historic properties found under the Secretary's Standards, codified in 36 CFR 68.

Appendix A—U.S. General Services Administration (GSA) Routine Operations and Maintenances Activities Exempted From Section 106 Review

The following are activities exempted from section 106 review as part of GSA's section 106 Routine Operations and Maintenance Exemption approved by the Advisory Council on Historic Preservation (ACHP) on January 13, 2023, in accordance with 36 CFR 800.14(c).

The activities are culled from appendices of activities excluded from section 106 review in GSA Regional Programmatic Agreements, from preservation activities recognized in the Secretary of the Interior's Standards for the Treatment of Historic Properties (Secretary's Standards) codified in 36 CFR part 68 and their respective Guidelines, and through section 106 consultation carried forth for this exemption with State Historic Preservation Officers, Tribal Historic Preservation Officers, Indian Tribes, Tribal and Native Hawaiian Organization representatives, the National Trust for Historic Preservation, and the National Conference of State Historic Preservation Officers.

Routine operations and maintenance activities in historic properties under the custody and control of GSA shall follow the Secretary of the Interior's Standards for Preservation (Preservation Standards) and accompanying Guidelines, and be informed by National Park Service Preservation Briefs (NPS Briefs) supplemented by GSA's repository of technical documentation including specifications and treatment guidelines developed by GSA materials conservation experts in accordance with these standards. Preservation as a treatment focuses on the ongoing maintenance of a historic property and its distinctive features allowing for limited, in-kind replacement of original fabric and character-defining features and limited, sensitive upgrading of mechanical, electrical, and plumbing systems and other code-required work to make properties functional. Protection, maintenance, and repair are emphasized while replacement is minimized. At any time, should a scope of work deviate from the Preservation Standards, the RHPO will initiate the section 106 review process.

Maintenance—Landscape and Grounds Maintenance General

—Minimal ground disturbing activity (one meter or less wide and half a meter or less deep) is permitted on GSA property that has been surveyed and previously determined to have no eligible historic landscapes or archaeological resources.

—Pressure washing of exterior envelope and surfaces with low pressure (150-200 PSI) water and mild detergents.

—Cleaning hard surface areas: sidewalks, brick areas, light poles, platforms, docks, driveways, ramps, moats.

—Graffiti removal.

—Stain removal.

—Snow and Ice Removal; including areas requiring heavy equipment.

—Integrated Pest Management (IPM; as specified in 7 U.S.C. 136r-1).

Exterior Security

—Repair and upgrade of security camera systems in existing locations.

—Installation of new security camera systems in landscapes, attached to adjacent poles, or attached to parapets or roofs by non-damaging installation methods.

—Installation of temporary, removable barriers for security or construction purposes, which do not require ground disturbance and are associated with a defined timeframe relating to a specific event or repair and/or construction project.

Landscaping and Landscape Architecture

—Resurfacing of existing paved surfaces, including pavement repair and replacement.

—Road maintenance and repaving which does not include road widening or deepening of the road profile.

—Repair and replacement of streetlights, traffic signals, traffic signs.

—Repair or replacement of existing park equipment, furniture, signage, walkways.

—Limited replacement of historic landscape elements that are deteriorated beyond repair.

—Routine maintenance of fountains and water features.

Utilities

—Installation of generators that are placed either inside buildings or existing ancillary structures, or outside occupying an area less than 50 square feet and located on a secondary elevation or with limited visibility from the primary viewshed of the building they serve.

—Above-ground utilities: Repair or replacement of existing wires, anchors, crossarms, transformers, and other miscellaneous hardware on existing overhead lines.

—Underground Utilities: Repair or replacement of existing water, sewer, natural gas, electric or telecommunication lines and in-place repair of septic systems if it occurs in previously disturbed soils (previously subjected to construction excavation and filling) in the existing trench. Directional boring method of installing new/replacement utility lines within previously disturbed soils (previously subjected to construction excavation and filling).

Maintenance—Facility Management Services

—Non-destructive or concealed diagnostic health and safety activities or testing for hazardous materials (i.e.: asbestos, radon, lead, lead pipes, buried fuel tanks, and asbestos containing materials).

—Removal of hazardous materials.

Elevator Inspection & Maintenance

—Installation of code-required signage and hardware.

—Replacement of non-historic elevator cabs.

—System-wide upgrades to mechanical and electrical cab interiors.

Fire Alarm System Installation: Preventative and Servicing

—Fire alarm detection/suppression systems maintenance, where the following can be met:

—New alarm pull stations that are installed on a freestanding pedestal or on a wall without penetrating materials that contribute to the significance of the property. Installation of wiring where existing finishes will not be impacted.

—Installation of automated building systems that replace existing electrical components.

Mechanical & Building Systems

—Repair and replacement: HVAC maintenance, boilers, chillers, energy management, electrical, life safety, telecommunications systems.

—Maintenance of water distribution systems.

—Electrical Maintenance: replacement of wire within existing conduits, replacement of fuses, electrical boxes, outlets, and establishment of additional circuits within existing boxes.

—Maintenance of existing plumbing and pipefitting.

Interior Surfaces

—Interior repainting of previously painted surfaces and new drywall.

—Minor security, communications, or video improvements, which may include locks, card readers, and/or cameras.

Architectural Barriers Act Accessibility Standard (ABAAS) Upgrades

—Reasonable accommodations that do not impact significant finishes including restroom features (grab bars, fixtures, dispensers, bathroom stalls), braille signage, ABAAS-compliant interior door handles, automatic flushing and door opening mechanisms.

Preservation—Building Enclosure

Roofs and Parapets

—Re-roofing of non-visible flat roofs.

—Repair or replacement (if beyond repair) of roofing materials and components (rafters, decking, fascia, soffits, gutters, downspouts, tiles or panels). This does not include re-roofing of entire roof or changes to roof configuration or pitch.

—Repair or replacement of parapet backup walls, roofing, flashing, termination bars, and through-wall flashing that cannot be seen from the public right-of-way.

—Installation of new or reflective roof coatings on a flat-roofed building with a parapet, such that the roofing material is not visible from the public right-of-way.

—Installation of gutter guards/covers over existing gutters in a manner that respects size and profile.

—Installation of protective roof coverings while working on other projects and stabilizing damaged roof areas before commencing maintenance or preservation work.

—Fastening roof elements using corrosion-resistant roof fasteners (nails and clips).

—Installation of photovoltaic equipment and supporting infrastructure on roof top when not visible from the public right-of-way.

—Skylights: maintenance, preservation and repair of skylights.

—Maintenance, preservation and repair of decorative features on roofs.

—Repair or replacement of existing rooftop-mounted equipment such as HVAC components, tie-offs, ductwork, window-washing equipment, and lightning protection equipment.

Windows and Doors

—Reglazing, caulking, weatherstripping, re-puttying windows and doors, and repairs to windows and doors, not including window or door replacement.

—Protecting wood or metal window frames and trim by cleaning, paint removal and reapplication of protective coating systems. Replacing broken or missing operable components.

—Installation of interior storm windows.

Curtain Walls

—Repairs and limited replacement of elements damaged or degraded beyond practicable repair of wall assemblies or exterior cladding when the color, size, reflectivity, materials, and visual patterns are unaltered.

Envelope

—Cleaning brick and stone (masonry) and stucco exteriors with low pressure wash (150-200 PSI), natural bristle brushes, and mild detergents.

—Re-pointing exterior masonry, ensuring correct mortar testing and match for composition, color, and appropriate compressive strength for the historic masonry assembly being repointed, and with appropriate means and tools.

—Masonry or stucco repairs.

—Refinishing and varnishing of exterior wood.

—Limited replacement of missing portions of exterior wood and consolidation of deteriorated portions of exterior wood with putties and repainting.

—Mothballing for a period no longer than ten (10) years.

Exterior Elements

—Repair of exterior metal elements including balconies and stair handrails.

—Rewiring and restoration of character defining ornamental lighting fixtures.

—Re-lamping light fixtures with energy-efficient lamps.

—Masonry repairs of stairs, wing walls, plazas, ramps, and site furniture.

—Cleaning and repointing of brick and stone (masonry) exterior elements as listed above in “Envelope” section.

—Repairs or limited replacements of character-defining decorative features.

Preservation—Interior Spaces, Features, Finishes

Windows and Doors

—Repair and replacement of missing or damaged window and door finish hardware.

—Replacement of removable interior window film and installation of solar screens.

—Installation and replacement of window treatments.

Finishes

—Plaster repair: repair of cracks, missing plastered areas, re-plastering of non-decorative walls that are plastered or were formerly plastered, which cannot be repaired in their present state.

—Select repair of small portions of decorative plaster elements where there are visible cracks or chips.

—Interior wood refinishing and revarnishing.

—Floor refinishing.

—Carpeting installation.

—Replacement of floors, walls, secondary stairs, ceilings and/or trim.

—Installation or replacement of non-character-defining lighting.

—Rewiring and preservation of character-defining, ornamental lighting fixtures.

—Re-lamping light fixtures with energy-efficient lamps.

—Removal and replacement of building contents including furniture, movable partitions, and cabinetry and equipment and any other non-character-defining moveable items.

(END OF DOCUMENT)

Authority: 36 CFR 800.14(c).

Dated: January 18, 2023.
Javier Marqués,
General Counsel.

[FR Doc. 2023-01188 Filed 1-20-23; 8:45 am]

BILLING CODE 4310-K6-P